DEPARTMENT OF HEALTH AND HUMAN SERVICES

Administration for Children and Families

Administration on Developmental Disabilities; University Centers for Excellence in Developmental Disabilities Education, Research, and Service (UCEDDs)

Announcement Type: Grant—Initial.

Funding Opportunity Number: HHS-2005-ACF-ADD-DD-0096.

CFDA Number: 93.632.

Due Date for Letter of Intent or Preapplications: June 8, 2005.

Due Date for Applications: June 23, 2005.

Executive Summary: The Administration on Developmental Disabilities (ADD) in the Administration for Children and Families (ACF), U.S. Department of Health and Human Services (DHHS) announces the availability of fiscal year 2005 funds to award grants to support the expansion of the National Network of University Centers for Excellence in Developmental Disabilities Education, Research, and Service (UCEDDs). The Developmental Disabilities Assistance and Bill of Rights Act of 2000 (Pub. L. 106-402) section 152(d) (42 U.S.C. 15062) authorizes the expansion of the National Network of UCEDDs, “* * * for States or populations that are unserved or underserved by Centers due to such factors as (1) population; (2) a high concentration of rural or urban areas; or (3) a high concentration of unserved or underserved populations.”

Applicants should have expertise in addressing the health disparities and education issues of ethnic and racial minority groups. This funding opportunity will support the administration and operation of up to three new UCEDDs that are interdisciplinary education, research, and public service units of universities, or public or not-for-profit entities associated with universities that engage in core functions (e.g., provision of interdisciplinary pre-service preparation and continuing education of students and fellows; provision of community services, including training and/or technical assistance; conduct of research; and dissemination of information) addressing, directly or indirectly, one or more of the areas of emphasis (e.g., quality assurance, education and early intervention, child care, health, employment, housing, transportation, recreation, and other services available or offered to individuals in a community, including formal and informal community supports, that affect their quality of life). This program announcement contains instructions for the submission of the fiscal year 2005 grant applications for core funding.

I. Funding Opportunity Description

Legislative Authority

The Administration on Developmental Disabilities (ADD) in the Administration for Children and Families (ACF), Department of Health and Human Services (DHHS) shares common goals with other ACF programs that promote the economic and social well-being of families, children, individuals, and communities. ACF and ADD envision:

• Families and individuals empowered to increase their own economic independence and productivity;

• Strong, healthy, supportive communities having a positive impact on the quality of life and the development of children;

• Partnerships with individuals, front-line service providers, communities, States, and Congress that enable solutions that transcend traditional agency boundaries;

• Services planned and integrated to improve access to programs and supports for individuals and families;

• A community-based approach that recognizes and expands on the resources and benefits of diversity; and

• A recognition of the power and effectiveness of public-private partnerships, including collaboration among a variety of community groups and government agencies, such as a coalition of faith-based organizations, grassroots groups, families, and public agencies to address a community need.

The vision, listed above, will enable more individuals, including people with developmental disabilities, to live productive and independent lives integrated into their communities. The University Centers for Excellence in Developmental Disabilities Education, Research, and Service are a means by which ADD promotes the achievement of this vision.

ADD is the lead agency in ACF, DHHS, for administering the Developmental Disabilities Assistance and Bill of Rights Act of 2000 (DD Act of 2000) (42 U.S.C. 15001, et seq.). The DD Act of 2000 authorizes support and assistance to States, public agencies, and private, non-profit organizations, including faith-based and community organizations, to assure that individuals with developmental disabilities and their families participate in the design of and have access to culturally competent services, supports, and other assistance and opportunities that promote independence, productivity, integration, and inclusion into the community.

As defined in the DD Act of 2000, the term “developmental disabilities” means a severe, chronic disability of an individual that is attributable to a mental or physical impairment or combination of mental and physical impairments that are manifested before the individual attains age 22 and are likely to continue indefinitely. Developmental disabilities result in substantial limitations in three or more of the following functional areas: self-care, receptive and expressive language, learning, mobility, self-direction, capacity for independent living, and capacity for economic self-sufficiency.

The DD Act of 2000 identifies a number of significant findings, including:

• Disability is a natural part of the human experience that does not diminish the right of individuals with developmental disabilities to enjoy the opportunity for independence, productivity, integration, and inclusion into the community.

• Individuals whose disabilities occur during their developmental period frequently have severe disabilities that are likely to continue indefinitely.

• Individuals with developmental disabilities often require lifelong specialized services and assistance, provided in a coordinated and culturally competent manner by many agencies, professionals, advocates, community representatives, and others to eliminate barriers and to meet the needs of such individuals and their families.

The DD Act of 2000 also promotes the best practices and policies presented below:

• Individuals with developmental disabilities, including those with the most severe developmental disabilities, are capable of achieving independence, productivity, integration, and inclusion into the community, and often require the provision of services, supports, and other assistance to achieve such.

• Individuals with developmental disabilities have competencies, capabilities, and personal goals that should be recognized, supported, and encouraged, and any assistance to such individuals should be provided in an individualized manner, consistent with the unique strengths, resources, priorities, concerns, abilities, and capabilities of the individual.

• Individuals with developmental disabilities and their families are the primary decision makers regarding the services and support such individuals and their families receive, and play decision making roles in policies and programs that affect the lives of such individuals and their families.

Toward these ends, ADD seeks to support and accomplish the following:

• Enhance the capabilities of families in assisting individuals with developmental disabilities to achieve their maximum potential;

• Support the increasing ability of individuals with developmental disabilities to exercise greater choice and self-determination and to engage in leadership activities in their communities;

• Ensure the protection of the legal and human rights of individuals with developmental disabilities;

• Ensure that individuals with developmental disabilities from culturally and linguistically diverse backgrounds and their families enjoy increased and meaningful opportunities to access and use community services, individualized supports, and other forms of assistance available to other individuals with developmental disabilities and their families; and

• Promote recruitment efforts that increase the number of individuals from culturally and linguistically diverse backgrounds who work with individuals with developmental disabilities and their families in disciplines related to pre-service training, community training, practice, administration, and policymaking.

There are four programs funded under the DD Act of 2000:

• State Developmental Disabilities Councils;

• State Protection and Advocacy Systems for Individuals with Developmental Disabilities' Rights;

• National Network of University Centers for Excellence in Developmental Disabilities, Education, Research, and Service; and

• Projects of National Significance.

This program announcement provides information about funding that will expand the National Network of University Centers for Excellence in Developmental Disabilities Education, Research, and Service.

National Network of University Centers for Excellence in Developmental Disabilities Education, Research, and Service

The purpose of this notice is to announce the availability of FY 2005 grant award funds for the expansion of the National Network of University Centers for Excellence in Developmental Disabilities Education, Research, and Service (UCEDDs). In accordance with requirements in Section 152(d) (42 U.S.C. 15062) of the DD Act of 2000, the grant awards will be made for populations that are unserved or underserved by UCEDDs due to factors such as elevated State residency rates, a high concentration of rural or urban areas, or increased rate of unserved or underserved populations. Applicants should have expertise in addressing the health disparities and education issues of ethnic and racial minority groups.

UCEDDs are interdisciplinary education, research, and public service units of universities or public or not-for-profit entities associated with universities that engage in core functions (e.g., interdisciplinary training, community services (including training and/or technical assistance), research, and dissemination of information) and address, directly or indirectly, one or more of the areas of emphasis (e.g., quality assurance, education and early intervention, child care, health, employment, housing, transportation, recreation, and other services available or offered to individuals in a community, including formal and informal community supports, that affect their quality of life).

As liaisons to service delivery systems, UCEDDs serve to positively affect the lives of individuals with developmental disabilities and their families, and work towards increasing their independence, productivity, and integration into communities. The National Network has evolved considerably during its history. Established in 1963, the development of the National Network is marked by growth in three phases (Fifield & Fifield, 1995). The first phase, 1963-1974, involved the construction of institutions closely associated with universities and the development of centralized expertise, training programs, clinical, diagnostic, and treatment services for persons with intellectual disabilities. The second phase, 1975-1986, promoted community-based services, developmental concepts, and the provision of services through a person's full life span. This period also saw the creation of the three major components of the present-day developmental disabilities system: State Developmental Disabilities Planning Councils, Protection and Advocacy Agencies, and University Centers. The third period, from 1987 to the present, has emphasized a consumer focus, as exemplified by the completion of an extensive national consumer satisfaction evaluation study, which brought to the forefront the issues of consumer empowerment, independence, and inclusion.

Currently, UCEDDs engage in four broad tasks called core functions: (1) Interdisciplinary preservice preparation and continuing education, (2) exemplary community service programs and technical assistance at all levels from local service delivery to community and state governments, (3) research, and (4) information dissemination.

UCEDD accomplishments include:

• Directing exemplary interdisciplinary training programs. The provision of training is offered in an interdisciplinary format where faculty and trainees represent a variety of disciplines, such as pediatrics, education, psychology, and nursing, thereby expanding opportunities for students to learn about the differing perspectives of various professionals who are providing services to individuals with developmental disabilities and their families.

• Providing community services and technical assistance. Staff offer expertise through training and technical assistance activities to families, support service organizations, individuals with developmental disabilities and their family members, professionals, paraprofessionals, students, systems, and volunteers.

• Contributing to the development of new knowledge through research and information dissemination. UCEDDs develop and field test models of service delivery and evaluate existing innovative practices, which are then disseminated to the field to translate research into practice.

The DD Act of 2000 requires that grants be made to entities designated as a UCEDD in each State. The DD Act defines a State as the fifty states, the District of Columbia, Puerto Rico, the U.S. Virgin Islands, and Guam. Currently, there are 61 UCEDDs in every State and Territory. Public Law 108-447, the Consolidated Appropriations Act of 2005, supports the expansion of the national network of UCEDDs. Funds made available under this program announcement will support the administration and operation of up to three newly designated UCEDDs. This program announcement contains instructions for the submission of the fiscal year 2005 grant applications for core funding. Applicants should note that the instructions for responding to this announcement follow requirements set forth in the DD Act of 2000 with regard to the UCEDD program.

Priority Area

University Centers for Excellence in Developmental Disabilities Education, Research, and Service.

1. Description

Below are instructions for the submission of fiscal year 2005 grant applications for core funding to support the operation and administration of newly established UCEDD programs. This funding opportunity expands the national network of UCEDDs for States or populations that are unserved or underserved by UCEDDs due to such factors as the number of individuals in the State; a high concentration of rural or urban areas; or a high concentration of unserved or underserved populations. Applicants should have expertise in addressing the health disparities and education issues of ethnic and racial minority groups.

Five-Year Plan

The application for core funding must describe a five-year plan that outlines a projected measurable goal for one or more area(s) of emphasis (e.g., quality assurance, education and early intervention, child care, health, employment, housing, transportation, recreation, and other services available or offered to individuals in a community, including formal and informal community supports, that affect their quality of life) for each core function. The UCEDD core functions are the following:

Interdisciplinary pre-service preparation and continuing education includes the preparation and continuing education of students and fellows representing leadership, direct service, clinical, or other personnel to strengthen and increase the capacity of States and communities. UCEDDs should promote recruitment efforts that increase the number of individuals from culturally and linguistically diverse backgrounds working with people with developmental disabilities and their families in disciplines related to pre-service training, community training, practice, administration, and policymaking. The nature of the UCEDD interdisciplinary training program should be reflected in the faculty and students. To this end, faculty and students should represent a variety of disciplines, which may include:

◦ Audiology.

◦ Dentistry.

◦ Early Intervention.

◦ Early Childhood Education.

◦ Early Childhood Special Education.

◦ Educational Administration.

◦ General Education.

◦ Health Administration.

◦ Medicine.

◦ Nursing.

◦ Nutrition.

◦ Pediatrics.

◦ Physical Therapy.

◦ Psychiatry.

◦ Psychology.

◦ Public Health.

◦ Public Policy.

◦ Occupational Therapy.

◦ Pediatric Dentistry.

◦ Social Work.

◦ Special Education.

◦ Speech-Language Pathology.

• Community services include the provision of training and technical assistance for individuals with developmental disabilities, their families, professionals, paraprofessionals, policy-makers, students, and other members of the community. It also may include the provision of services, supports, and assistance for the persons with developmental disabilities and their families through demonstration and model activities. Community services promote the delivery of programs, projects, activities, and services in community-based settings rather than academic or traditional clinical settings. In addition, the provision of community services should ensure that individuals with developmental disabilities from racial and ethnic minority backgrounds and their families enjoy increased and meaningful opportunities to access and use community services, individualized supports, and other forms of assistance available to other individuals with developmental disabilities and their families.

• Research includes basic or applied research, evaluation, and the analysis of public policy in areas that affect or could affect, either positively or negatively, individuals with developmental disabilities and their families. To the extent possible, UCEDDs should seek to include people with developmental disabilities and their families, including those from culturally and linguistically diverse groups, as active participants in the research process thereby ensuring that these individuals and their families participate in the development, design, and implementation of research activities.

• Information dissemination includes the distribution of knowledge that demonstrates the UCEDD network as a national and international resource with substantive areas of expertise that may be accessed and applied in diverse settings and circumstances. UCEDDs should strive to translate research into practice in the dissemination of information. Information should be disseminated in multiple accessible formats and in a culturally competent manner.

Organizational Experience

The application for core funding should describe how the applicant has expertise in addressing the health disparities and education issues of ethnic and racial minority groups. In addition, the applicant should provide a description of how that experience will be applied in working to further improve the health and education services of persons with developmental disabilities, including those from racial and ethnic minority groups.

Assurances

The application for core funding must contain assurances that the applicant will implement requirements in the DD Act of 2000 with regard to the UCEDD program:

• The entity designated as the UCEDD will meet statutory and regulatory requirements that apply to Centers.

• The entity designated as the UCEDD will address the projected goals and carry out goal-related activities in a manner consistent with the objectives of the DD Act of 2000.

The goal-related activities must be:

◦ Based on data-driven strategic planning;

◦ Developed in collaboration with the Consumer Advisory Committee (CAC);

◦ Consistent with, and to the extent feasible, complement and further the State Developmental Disabilities Council goals contained in the State plan and the goals of the State Protection and Advocacy System; and

◦ Reviewed and revised annually, as necessary, to address emerging trends and needs.

◦ Funds made available through the grant will be used to supplement, and not supplant, the funds that would otherwise be made available for activities related to interdisciplinary pre-service preparation, and continuing education, community services, research, and information dissemination.

◦ The entity designated as the UCEDD will protect the legal and human rights of all individuals with developmental disabilities (especially those individuals under State guardianship) who are involved in activities carried out under programs assisted by the DD Act of 2000.

◦ The entity designated as the UCEDD will establish and maintain a Consumer Advisory Committee (CAC).

◦ The majority of the members of the Consumer Advisory Committee shall be individuals with developmental disabilities and family members of such individuals.

The CAC must also include representatives of:

◦ The State Protection and Advocacy System;

◦ The State Council on Developmental Disabilities;

◦ A self-advocacy organization described in Section 124(c)(4)(A)(ii)(I) of the DD Act of 2000; and

◦ Organizations that may include Parent Training and Information Centers assisted under Sections 671 and 672 of the Individuals with Disabilities Education Improvement Act of 2004, entities carrying out activities in assistive technology authorized under section 101 or 102 of the Assistive Technology Act of 2004, relevant State agencies, and other community groups concerned with the welfare of individuals with developmental disabilities and their families.

• The CAC must reflect the racial and ethnic diversity of the State.

• The CAC should: be consulted regarding the development of the five-year plan, participate in an annual review, comment on progress in meeting projected goals, and meet as often as necessary, but at a minimum of twice during each grant year.

◦ To the extent possible, the infrastructure and resources obtained through funds made available under the grant will be utilized to leverage additional public and private funds to successfully achieve the projected goals developed in the five-year plan.

◦ The director of the UCEDD will hold appropriate academic credentials, demonstrate leadership, have expertise regarding developmental disabilities, have significant experience in managing grants and contracts, and have the ability to leverage public and private funds; and will allocate adequate staff time to carry out activities related to each of the core functions.

◦ The entity designated as the UCEDD will educate and disseminate information related to the purpose of the DD Act of 2000 to the legislature of the State in which the Center is located and to Members of Congress from the State.

Coordinated Activities

The respondents to this announcement should provide a narrative and related supporting documentation of how, if funded, the UCEDD will undertake coordinated activities with the State Developmental Disabilities Councils and the Protection and Advocacy System in the State to:

• Enhance the ability of individuals with developmental disabilities and their families to participate in the design of and have access to needed community services, individualized supports, and other forms of assistance that promote self-determination, independence, productivity, and integration and inclusion in all facets of community life;

• Bring about advocacy, capacity building, and systemic change activities (including policy reform), and other actions on behalf of individuals with developmental disabilities and their families, including individuals who are traditionally unserved or underserved, particularly individuals who are members of ethnic and racial minority groups and individuals from underserved geographic areas; and

• Bring about advocacy, capacity building, and systemic change activities that affect individuals with disabilities other than individuals with developmental disabilities;

Program Accountability

Respondents to this program announcement must describe how they will comply with the accountability requirements outlined in the DD Act of 2000. The accountability requirements are comprised of two components: (1) the UCEDD's Annual Report, and (2) ADD's system of program accountability.

Entities designated as UCEDDs must submit an Annual Report that provides information on progress made in achieving the UCEDD's projected goals for the previous year, including:

• The extent to which the goals were achieved;

• A description of the strategies that contributed to achieving the goals; and

• To the extent to which the goals were not achieved, a description of factors that impeded the achievement.

The Annual Report should also include an accounting of the manner in which funds paid to the UCEDD for a fiscal year were expended; information on proposed revisions to the goals; and a description of successful efforts to leverage funds, other than funds made available to support the operation and administration of the UCEDD, to pursue goals consistent with the UCEDD program.

The ADD system of program accountability is designed to:

• Monitor entities that received funds under the DD Act of 2000 to carry out its activities;

• Determine the extent to which the entities have been responsive to the purpose of the DD Act of 2000; and

• Determine the extent to which the entities have taken actions consistent with the policy described in section 101(c) of the DD Act of 2000.

The accountability system must include a process for identifying and reporting on progress achieved through advocacy, capacity building, and systemic change activities, undertaken by the UCEDDs that resulted in individuals with developmental disabilities and their families participating in the design of and having access to needed community services, individualized supports, and other forms of assistance that promote self-determination, independence, productivity, and integration and inclusion in all facets of community life. Progress achieved through the advocacy, capacity building, and systemic change activities must be reported by the areas of emphasis (e.g., quality assurance, education and early intervention, child care, health, employment, housing, transportation, recreation, and other services available or offered to individuals in a community, including formal and informal community supports, that affect their quality of life).

In identifying progress made in the areas of emphasis, the UCEDD will report using indicators of progress that describe and measure the:

◦ Satisfaction of individuals with developmental disabilities with the advocacy, capacity building, and systemic change activities provided by the UCEDD;

◦ Extent to which the advocacy, capacity building, and systemic change activities provided through the UCEDD result in improvements in the ability of individuals with developmental disabilities to:

◦ Make choices and exert control over the type, intensity, and timing of services, supports, and assistance that the individuals have used;

◦ Participate in the full range of community life with persons of the individuals' choice; and

◦ Access services, supports, and assistance in a manner that ensures that such an individual is free from abuse, neglect, sexual and financial exploitation, violation of legal and human rights, and the inappropriate use of restraints and seclusion; and

◦ Extent to which the State Council on Developmental Disabilities, the Protection and Advocacy Agency, and UCEDD collaborate with each other to achieve the purpose of this title and the policy described in section 101(c).

In responding to this announcement, applicants should provide assurances that they will, if funded, follow the reporting requirements, including the proposed ADD format, for the UCEDD program. A copy of the proposed ADD format may be obtained by contacting Jennifer Johnson at (202) 690-5982 or jjohnson1@acf.hhs.gov.

II. Award Information

Funding Instrument Type: Grant.

Anticipated Total Priority Area Funding: $600,000.

Anticipated Number of Awards: 1 to 3.

Ceiling on Amount of Individual Awards: $200,000 per budget period.

Floor on Amount of Individual Awards: $200,000 per budget period.

Average Projected Award Amount: $200,000 per budget period.

Length of Project Periods: 60 month project with five 12 month budget periods.

Entities awarded grants under this funding opportunity will apply each fiscal year for continued funding. In awarding and distributing grant funds for a fiscal year, ADD shall award and distribute grant funds in equal amounts to each UCEDD that existed during the preceding fiscal year, subject to the availability of appropriations. Therefore, the funding amounts for the first fiscal year of the project period may be different from subsequent years.

III. Eligibility Information

1. Eligible Applicants:

• State controlled institutions of higher education.

• Non-profits having a 501(c)(3) status with the IRS, other than institutions of higher education.

• Private institutions of higher education.

Additional Information on Eligibility:

Faith-based and community organizations are eligible entities under this announcement.

Please see Section IV for required documentation supporting eligibility or funding restrictions if any are applicable.

2. Cost Sharing/Matching: Yes.

Grantees are required to meet a non-Federal share of the project costs, in accordance with Developmental Disabilities Assistance and Bill of Rights Act of 2000, 42 U.S.C. 15064(d)(1). Grantees must provide at least 25% of the total approved cost of the project. The total approved cost of the project is the sum of the ACF share and the non-Federal share. The non-Federal share may be met by cash or in-kind contributions, although applicants are encouraged to meet their match requirements through cash contributions. For example, in order to meet the match requirements, a project with a total approved cost of $133,000, requesting $100,000 in ACF funds, must provide a non-Federal share of at least $33,250 (25% of total approved project cost of $133,000). Grantees will be held accountable for commitments of non-Federal resources even if over the amount of the required match. Failure to provide the amount will result in disallowance of Federal funds. Lack of supporting documentation at the time of application will not impact the responsiveness of the application for competitive review.

3. Other:

All applicants must have a Dun & Bradstreet number. On June 27, 2003 the Office of Management and Budget published in the Federal Register a new Federal policy applicable to all Federal grant applicants. The policy requires Federal grant applicants to provide a Dun & Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

Non-profit organizations applying for funding are required to submit proof of their non-profit status. Proof of non-profit status is any one of the following:

• A reference to the applicant organization's listing in the Internal Revenue Service's (IRS) most recent list of tax-exempt organizations described in the IRS Code.

• A copy of a currently valid IRS tax exemption certificate.

• A statement from a State taxing body, State attorney general, or other appropriate State official certifying that the applicant organization has a non-profit status and that none of the net earning accrue to any private shareholders or individuals.

• A certified copy of the organization's certificate of incorporation or similar document that clearly establishes non-profit status.

• Any of the items in the subparagraphs immediately above for a State or national parent organization and a statement signed by the parent organization that the applicant organization is a local non-profit affiliate.

When applying electronically we strongly suggest you attach your proof of non-profit status with your electronic application.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Disqualification Factors:

Applications that exceed the ceiling amount will be considered non-responsive and will not be considered for funding under this announcement.

Any application that fails to satisfy the deadline requirements referenced in Section IV.3 will be considered non-responsive and will not be considered for funding under this announcement.

IV. Application and Submission Information

1. Address To Request Application Package:

Jennifer Johnson Ed.D., Program Specialist, Office of Operations and Discretionary Grants, Administration on Developmental Disabilities, Administration for Children and Families, Mail Stop: HHH 405-D, 370 L'Enfant Promenade, SW., Washington, DC 20447. Phone: (202) 690-5982. Fax: (202) 205-8037. E-mail: jjohnson1@acf.hhs.gov.

2. Content and Form of Application Submission:

The required application package will include the following using the format described:

Letter of Intent

In submitting a letter of intent, applicants are asked to remit a post card or letter with a statement indicating that they intend to apply and the following information:

Funding opportunity number;

Organizational name;

Point of contact;

Organizational address;

Phone number;

Fax number;

E-mail address.

Letters of intent can be sent to:

Jennifer Johnson, Ed.D., Program Specialist, Office of Operations and Discretionary Grants, Administration on Developmental Disabilities, Administration for Children and Families, Mail Stop: HHH 405-D, 370 L'Enfant Promenade, SW., Washington, DC 20447. Phone: (202) 690-5982. Fax: (202) 205-8037. E-mail: jjohnson1@acf.hhs.gov.

Letter of Intent information will be used to determine the number of reviewers necessary to complete the panel review process. Failure to submit a Letter of Intent will not impact eligibility to submit an application and will not disqualify an application from competitive review based on non-responsiveness.

Format

The application must not exceed 50 double-spaced, numbered, typed pages excluding an abstract and a table of contents. Any application that exceeds the page limit requirement will have the additional pages removed from the application prior to the review. The type must not be smaller than 12 pitch or a point size of 12. The margins must not be less than one inch.

Appendix

The Appendix must not exceed 40 pages. Supplementary material, intended to provide examples of activities, may be included in the Appendix for reviewers but shall adhere to the page limit requirement. The Appendix must be included with the original and the two copies of the application.

Budget

The applicant shall develop a full budget, including a completed SF 424A, “Budget Information—Non-Construction Programs,” a detailed budget breakdown by object class categories listed in the SF 424A, Section B, and a narrative budget justification, for a twelve-month budget period. The budget justification should describe how the costs are reasonable and necessary for the proper and efficient administration of the proposed project. Applicants should include in their budget funds to pay for travel expenses to attend at least one ADD-sponsored Project Director's meeting in Washington, DC. The applicant must include the twelve-month Federal budget under Column (1), the twelve-month non-Federal budget under Column (2), and the total twelve-month budget under Column (5) of the SF 424A. The applicant shall use the three-column approach when preparing the detailed budget breakdown. For the remaining four years of the requested project period, the applicant must complete SF 424A, Section E, indicating the total forecasted budget for each year. The applicant must also provide a lump sum figure for non-Federal contributions for the second through fifth years of the project on SF 424A, Section C.

If the procurement policy of an applicant's institution includes an equipment definition other than the current Federal definition, a copy of the institution's current definition should be included in the application.

Checklist for a Complete Application

The checklist below is for your use to ensure that your application package has been properly prepared.

__One original, signed and dated application, plus two copies.

__Application is from an organization that is eligible under the eligibility requirements, defined in the Priority Area description.

__Application length does not exceed 50 pages.

__Appendix length does not exceed 40 pages.

A complete application has the following items in the order listed:

__Application for Federal Assistance (SF 424).

__A completed SPOC certification with the date of SPOC contact entered in line 16, page 1 of the SF 424 if applicable.

__Budget Information Non-Construction Programs (SF 424A).

__Assurances Regarding Non-Construction Programs (SF 424B).

__Budget justification for Section B Budget Categories with a description of how the costs are reasonable and necessary.

__Table of Contents.

__Proof of Non-Profit Status, if applicable, (see Section III.3.).

__Copy of the applicant's approved indirect cost rate agreement, if appropriate (when charging indirect costs to Federal funds or when using indirect costs as a matching share).

__Project Description.

__Letter(s) of commitment verifying non-Federal cost share.

__Any appendices/attachments.

__Assurances Non-Construction Programs (Standard Form 424B).

__Certification Regarding Lobbying (SF LLL).

__Certification of Protection of Human Subjects, if necessary.

__Certification of the Pro Children Act of 1994 (Environmental Tobacco Smoke), signature on the application represents certification.

__“Survey on Ensuring Equal Opportunity for Applicants,” for private, non-profit applicants.

You may submit your application to us in either electronic or paper format. To submit an application electronically, please use the http://www.Grants.gov/Apply site. If you use Grants.gov, you will be able to download a copy of the application package, complete it off-line, and then upload and submit the application via the Grants.gov site. ACF will not accept grant applications via email or facsimile transmission.

Please note the following if you plan to submit your application electronically via Grants.gov:

• Electronic submission is voluntary, but strongly encouraged.

• When you enter the Grants.gov site, you will find information about submitting an application electronically through the site, as well as the hours of operation. We strongly recommend that you do not wait until the application deadline date to begin the application process through Grants.gov.

• We recommend you visit Grants.gov at least 30 days prior to filing your application to fully understand the process and requirements. We encourage applicants who submit electronically to submit well before the closing date and time so that if difficulties are encountered an applicant can still send in a hard copy overnight. If you encounter difficulties, please contact the Grants.gov Help Desk at 1-800-518-4276 to report the problem and obtain assistance with the system.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on http://www.Grants.gov.

• You must search for the downloadable application package by the CFDA number.

Applicants that are submitting their application in paper format should submit an original and two copies of the complete application. The original and each of the two copies must include all required forms, certifications, assurances, and appendices, be signed by an authorized representative, have original signatures, and be submitted unbound.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Standard Forms and Certifications:

The project description should include all the information requirements described in the specific evaluation criteria outlined in the program announcement under Section V Application Review Information. In addition to the project description, the applicant needs to complete all the standard forms required for making applications for awards under this announcement.

Applicants seeking financial assistance under this announcement must file the Standard Form (SF) 424, Application for Federal Assistance; SF-424A, Budget Information—Non-Construction Programs; SF-424B, Assurances—Non-Construction Programs. The forms may be reproduced for use in submitting applications. Applicants must sign and return the standard forms with their application.

Applicants must furnish prior to award an executed copy of the Standard Form LLL, Certification Regarding Lobbying, when applying for an award in excess of $100,000. Applicants who have used non-Federal funds for lobbying activities in connection with receiving assistance under this announcement shall complete a disclosure form, if applicable, with their applications (approved by the Office of Management and Budget under control number 0348-0046). Applicants must sign and return the certification with their application.

Applicants must also understand they will be held accountable for the smoking prohibition included within Public Law 103-227, Title XII Environmental Tobacco Smoke (also known as the PRO-KIDS Act of 1994). A copy of the Federal Register notice which implements the smoking prohibition is included with this form. By signing and submitting the application, applicants are providing the certification and need not mail back the certification with the application.

Applicants must make the appropriate certification of their compliance with all Federal statutes relating to nondiscrimination. By signing and submitting the applications, applicants are providing the certification and need not mail back the certification form. Complete the standard forms and the associated certifications and assurances based on the instructions on the forms. The forms and certifications may be found at: http://www.acf.hhs.gov/programs/ofs/forms.htm.

Those organizations required to provide proof of non-profit status, please refer to Section III.3.

Please see Section V.1 for instructions on preparing the full project description.

3. Submission Dates and Times:

Due Date for Letter of Intent or Preapplications: June 8, 2005.

Due Date for Applications: June 23, 2005.

Explanation of Due Dates

The closing time and date for receipt of applications is referenced above. Applications received after 4:30 p.m. eastern time on the closing date will be classified as late.

Deadline: Applications shall be considered as meeting an announced deadline if they are received on or before the deadline time and date referenced in Section IV.6. Applicants are responsible for ensuring applications are mailed or submitted electronically well in advance of the application due date.

Applications hand carried by applicants, applicant couriers, other representatives of the applicant, or by overnight/express mail couriers shall be considered as meeting an announced deadline if they are received on or before the deadline date, between the hours of 8 a.m. and 4:30 p.m., eastern time, at the address referenced in Section IV.6., between Monday and Friday (excluding Federal holidays).

ACF cannot accommodate transmission of applications by facsimile. Therefore, applications transmitted to ACF by fax will not be accepted regardless of date or time of submission and time of receipt.

Late Applications: Applications that do not meet the criteria above are considered late applications. ACF shall notify each late applicant that its application will not be considered in the current competition.

Any application received after 4:30 p.m. eastern time on the deadline date will not be considered for competition.

Applicants using express/overnight mail services should allow two working days prior to the deadline date for receipt of applications. Applicants are cautioned that express/overnight mail services do not always deliver as agreed.

Extension of deadlines: ACF may extend application deadlines when circumstances such as acts of God (floods, hurricanes, etc.) occur, or when there are widespread disruptions of mail service, or in other rare cases. A determination to extend or waive deadline requirements rests with the Chief Grants Management Officer.

Receipt acknowledgement for application packages will not be provided to applicants who submit their package via mail, courier services, or by hand delivery. Applicants will receive an electronic acknowledgement for applications that are submitted via http://www.Grants.gov.

Checklist:

You may use the checklist below as a guide when preparing your application package.

What to submit | Required content | Required form or format | When to submit
Project Abstract | See Sections IV.2 and V | Found in Sections IV.2 and V | By application due date.
Project Description | See Sections IV.2 and V | Found in Sections IV.2 and V | By application due date.
Budget Narrative/Justification | See Sections IV.2 and V | Found in Sections IV.2 and V | By application due date.
SF424 | See Section IV.2 | See http://www.acf.hhs.gov/programs/ofs/forms.htm | By application due date.
SF-LLL Certification Regarding Lobbying | See Section IV.2 | See http://www.acf.hhs.gov/programs/ofs/forms.htm | By date of award.
Certification Regarding Environmental Tobacco Smoke | See Section IV.2 | See http://www.acf.hhs.gov/programs/ofs/forms.htm | By date of award.
Assurances | See Section IV.2 | See http://www.acf.hhs.gov/programs/ofs/forms.htm | By date of award.
Letter of Intent | See Section IV.2 | Found in Section IV.2 | June 8, 2005.
Table of Contents | See Section IV.2 | Found in Section IV.2 | By application due date.
SF424A | See Section IV.2 | See http://www.acf.hhs.gov/programs/ofs/forms.htm | By application due date.
Support Letters | See Section V | Found in Section V | By application due date.
Non-Federal Commitment Letters | See Section V | Found in Section V | By application due date.
SF424B | See Section IV.2 | See http://www.acf.hhs.gov/programs/ofs/forms.htm | By application due date.
Proof of Non-Profit Status | See Section III.3 | Found in Section III.3 | By date of award.

Additional Forms:

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

What to submit | Required content | Required form or format | When to submit
Survey for Private, Non-Profit Grant Applicants | See form | Found in http://www.acf.hhs.gov/programs/ofs/forms.htm | By application due date.

4. Intergovernmental Review:

State Single Point of Contact (SPOC)

This program is covered under Executive Order 12372, “Intergovernmental Review of Federal Programs,” and 45 CFR part 100, “Intergovernmental Review of Department of Health and Human Services Programs and Activities.” Under the Order, States may design their own processes for reviewing and commenting on proposed Federal assistance under covered programs.

As of October 1, 2004, the following jurisdictions have elected to participate in the Executive Order process: Arkansas, California, Delaware, District of Columbia, Florida, Georgia, Illinois, Iowa, Kentucky, Maine, Maryland, Michigan, Mississippi, Missouri, Nevada, New Hampshire, New Mexico, New York, North Dakota, Rhode Island, South Carolina, Texas, Utah, West Virginia, Wisconsin, American Samoa, Guam, North Mariana Islands, Puerto Rico, and Virgin Islands. As these jurisdictions have elected to participate in the Executive Order process, they have established SPOCs. Applicants from participating jurisdictions should contact their SPOC, as soon as possible, to alert them of prospective applications and receive instructions. Applicants must submit all required materials, if any, to the SPOC and indicate the date of this submittal (or the date of contact if no submittal is required) on the Standard Form 424, item 16a. Under 45 CFR 100.8(a)(2).

A SPOC has 60 days from the application deadline to comment on proposed new or competing continuation awards. SPOCs are encouraged to eliminate the submission of routine endorsements as official recommendations. Additionally, SPOCs are requested to clearly differentiate between mere advisory comments and those official State process recommendations which may trigger the “accommodate or explain” rule.

When comments are submitted directly to ACF, they should be addressed to the U.S. Department of Health and Human Services, Administration for Children and Families, Office of Grants Management, Division of Discretionary Grants, 370 L'Enfant Promenade, SW., 4th floor, Washington, DC 20447.

Although the remaining jurisdictions have chosen not to participate in the process, entities that meet the eligibility requirements of the program are still eligible to apply for a grant even if a State, Territory, Commonwealth, etc. does not have a SPOC. Therefore, applicants from these jurisdictions, or for projects administered by federally-recognized Indian Tribes, need take no action in regard to E.O. 12372.

The official list, including addresses, of the jurisdictions that have elected to participate in E.O. 12372 can be found on the following URL: http://www.whitehouse.gov/omb/grants/spoc.html.

5. Funding Restrictions:

Grant awards will not allow reimbursement of pre-award costs.

Construction is not an allowable activity or expenditure under this announcement.

Applicants should include in their budget funds to pay for travel expenses to attend at least one ADD-sponsored Project Director's meeting in Washington.

6. Other Submission Requirements:

Submission by Mail: An applicant must provide an original application with all attachments, signed by an authorized representative and two copies. Please see Section IV.3 for an explanation of due dates. Applications should be mailed to:

Tim Chappelle, Office of Grants Management, Administration for Children and Families, U.S. Department of Health and Human Services, 370 L'Enfant Promenade, SW., 8th Floor, Washington, DC 20447.

Hand Delivery: An applicant must provide an original application with all attachments signed by an authorized representative and two copies. The application must be received at the address below by 4:30 p.m. eastern time on or before the closing date. Applications that are hand delivered will be accepted between the hours of 8 a.m. to 4:30 p.m. eastern time, Monday through Friday. Applications should be delivered to:

Tim Chapelle, Office of Grants Management, Administration for Children and Families, U.S. Department of Health and Human Services, 370 L'Enfant Promenade, SW., 8th Floor, Washington, DC 20447.

Electronic Submission: Please see Section IV.2 for guidelines and requirements when submitting applications electronically via http://www.Grants.gov.

V. Application Review Information

The Paperwork Reduction Act of 1995 (Pub. L. 104-13)

Public reporting burden for this collection of information is estimated to average 80 hours per response, including the time for reviewing instructions, gathering and maintaining the data needed and reviewing the collection information.

The project description is approved under OMB control number 0970-0139 which expires 4/30/2007.

An agency may not conduct or sponsor, and a person is not required to respond to, a collection of information unless it displays a currently valid OMB control number.

1. Criteria:

The following are instructions and guidelines on how to prepare the “project summary/abstract” and “full project description” sections of the application. Under the evaluation criteria section, note that each criterion is preceded by the generic evaluation requirement under the ACF Uniform Project Description (UPD).

Part I—The Project Description Overview

Purpose

The project description provides a major means by which an application is evaluated and ranked to compete with other applications for available assistance. The project description should be concise and complete and should address the activity for which Federal funds are being requested. Supporting documents should be included where they can present information clearly and succinctly. In preparing your project description, information responsive to each of the requested evaluation criteria must be provided. Awarding offices use this and other information in making their funding recommendations. It is important, therefore, that this information be included in the application in a manner that is clear and complete.

General Instructions

ACF is particularly interested in specific project descriptions that focus on outcomes and convey strategies for achieving intended performance. Project descriptions are evaluated on the basis of substance and measurable outcomes, not length. Extensive exhibits are not required. Cross-referencing should be used rather than repetition. Supporting information concerning activities that will not be directly funded by the grant or information that does not directly pertain to an integral part of the grant funded activity should be placed in an appendix.

Pages should be numbered and a table of contents should be included for easy reference.

Introduction

Applicants required to submit a full project description shall prepare the project description statement in accordance with the following instructions while being aware of the specified evaluation criteria. The text options give a broad overview of what your project description should include while the evaluation criteria identifies the measures that will be used to evaluate applications.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived.

Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished.

Evaluation

Provide a narrative addressing how the conduct of the project and the results of the project will be evaluated. In addressing the evaluation of results, state how you will determine the extent to which the project has achieved its stated objectives and the extent to which the accomplishment of objectives can be attributed to the project. Discuss the criteria to be used to evaluate results, and explain the methodology that will be used to determine if the needs identified and discussed are being met and if the project results and benefits are being achieved. With respect to the conduct of the project, define the procedures to be employed to determine whether the project is being conducted in a manner consistent with the work plan presented and discuss the impact of the project's various activities on the project's effectiveness.

Additional Information

Following are requests for additional information that need to be included in the application:

Staff and Position Data

Provide a biographical sketch and job description for each key person appointed. Job descriptions for each vacant key position should be included as well. As new key staff is appointed, biographical sketches will also be required.

Organizational Profiles

Provide information on the applicant organization(s) and cooperating partners, such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. If the applicant is a non-profit organization, submit proof of non-profit status in its application.

The non-profit agency can accomplish this by providing: (a) A reference to the applicant organization's listing in the Internal Revenue Service's (IRS) most recent list of tax-exempt organizations described in the IRS Code; (b) a copy of a currently valid IRS tax exemption certificate, (c) a statement from a State taxing body, State attorney general, or other appropriate State official certifying that the applicant organization has a non-profit status and that none of the net earnings accrue to any private shareholders or individuals; (d) a certified copy of the organization's certificate of incorporation or similar document that clearly establishes non-profit status, (e) any of the items immediately above for a State or national parent organization and a statement signed by the parent organization that the applicant organization is a local non-profit affiliate.

Letters of Support

Provide statements from community, public and commercial leaders that support the project proposed for funding. All submissions should be included in the application OR by application deadline.

Budget and Budget Justification

Provide a budget with line item detail and detailed calculations for each budget object class identified on the Budget Information form. Detailed calculations must include estimation methods, quantities, unit costs, and other similar quantitative detail sufficient for the calculation to be duplicated. Also include a breakout by the funding sources identified in Block 15 of the SF-424.

Provide a narrative budget justification that describes how the categorical costs are derived. Discuss the necessity, reasonableness, and allocability of the proposed costs.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, upon notification that an award will be made, it should immediately develop a tentative indirect cost rate proposal based on its most recently completed fiscal year, in accordance with the cognizant agency's guidelines for establishing indirect cost rates, and submit it to the cognizant agency. Applicants awaiting approval of their indirect cost proposals may also request indirect costs. When an indirect cost rate is requested, those costs included in the indirect cost pool should not also be charged as direct costs to the grant. Also, if the applicant is requesting a rate which is less than what is allowed under the program, the authorized representative of the applicant organization must submit a signed acknowledgement that the applicant is accepting a lower rate than allowed.

Total Direct Charges, Total Indirect Charges, Total Project Costs

Evaluation Criteria:

The following evaluation criteria appear in weighted descending order. The corresponding score values indicate the relative importance that ACF places on each evaluation criterion; however, applicants need not develop their applications precisely according to the order presented. Application components may be organized such that a reviewer will be able to follow a seamless and logical flow of information (i.e., from a broad overview of the project to more detailed information about how it will be conducted).

In considering how applicants will carry out the responsibilities addressed under this announcement, competing applications for financial assistance will be reviewed and evaluated against the following criteria:

Approach—40 points

The applications will be evaluated according to the extent to which the applicant outlines a sound, workable, and detailed plan of action pertaining to the measurable goals and objectives of the proposed project and the proposed approach; identifies activities in chronological order, with target dates for accomplishment and the key personnel responsible for completing the activity; and clearly identifies the plan of action and delineates the roles and involvement of each of the proposed project's partners, collaborators, and/or sub-grantees.

Using the following values for each required item in this criterion, points will be awarded according to the extent to which the application:

15 Points

Provides evidence of a well developed five-year work plan that includes a clear description of the scope and detail of the proposed work. Includes reference to a list of measurable and attainable goals and provides quantitative projections of the accomplishments to be achieved for each function or activity in such terms as the number of people to be served and the number of activities to be accomplished. Provides chronological order of approach with target dates.

5 Points

Identifies innovative design and methods, including the provision of services in community-based rather than academic settings and strategies for reaching out to culturally and linguistically diverse populations.

5 Points

Includes the provision of interdisciplinary training and continuing education, community services (training, services, and technical assistance), research, and dissemination of information in a culturally competent manner and provides for the meaningful participation of individuals from diverse racial and ethnic backgrounds in the purpose and scope of activities.

5 Points

Describes prior experience in addressing health disparities and education issues and how it will use that experience to further improve the health and education services to persons with developmental disabilities, including those from racial and ethnic minority groups.

5 Points

Identifies and delineates the roles and involvement of DD Network partners and other collaborators, and/or sub-grantees.

3 Points

Cites factors that might accelerate or decelerate the work.

2 Points

Describes how the entity designated as a UCEDD will participate in the national network of UCEDDs as a national and international resource.

Objectives and Need for Assistance—25 points

Applications will be evaluated according to the extent to which the applicant demonstrates a thorough understanding and analysis of the problem(s) being addressed in the project; documents the need for assistance, and the importance of addressing these problems in the area(s) to be addressed by the proposed project; outlines key goals and objectives of the project directly related to the four core functions (interdisciplinary training and continuing education, community services (training and technical assistance, research, and dissemination) in one or more selected areas of emphasis (quality assurance, education and early intervention, child care, health, employment, housing, transportation, and recreation and other services available or offered to individuals in a community, including formal and informal community supports, that affect their quality of life); provides evidence that consumer members provided input into the development of the application for core funding; and provides any supporting documentation and relevant data based on research or planning studies, and maps and other graphical aids.

Using the following values for each required item in this criterion, points will be awarded according to the extent to which the application:

15 Points

Clearly identifies the need for assistance, describes the significant features and components of the program, clearly states the goals and subordinates objectives of the project, and provides a rationale for project goals directly related to the four core functions (interdisciplinary training and continuing education, community services (training and technical assistance, research, and disseminations) in one or more selected areas of emphasis (quality assurance, education and early intervention, child care, health, employment, housing, transportation, and recreation and other services available or offered to individuals in a community, including formal and informal community supports, that affect their quality of life).

5 Points

Provides evidence of input from consumers

5 Points

Provides relevant data based on research and/or planning studies.

Evaluation—15 points

The application will be evaluated according to the extent to which the applicant provides a narrative outlining how project results will be evaluated; states methods for measuring the extent to which project goals have been achieved; discusses the criteria to be used to evaluate results; explains the methodology that will be used to determine if the needs identified and discussed are being met and if the project results and benefits are being achieved; with respect to the conduct of the project, defines the procedures to be employed to determine whether the project is being conducted in a manner consistent with the work plan presented; and discusses the impact of the project's various activities on the project's effectiveness.

Using the following values for each required item in this criterion, points will be awarded according to the extent to which the application:

5 Points

Provides a detailed narrative outlining how project results will be evaluated, states methods for measuring the extent to which project goals have been achieved, and discusses the criteria to be used to evaluate results.

5 Points

Explains the methodology that will be used to determine if the needs identified and discussed are being met and if the project results and benefits are being achieved.

5 Points

With respect to the conduct of the project, defines the procedures to be employed to determine whether the project is being conducted in a manner consistent with the work plan presented and discusses the impact of the project's various activities on the project's effectiveness.

Staff and Position Data—10 points

The applications will be evaluated according to the extent to which the applicant provides a biographical sketch and job description for each key person appointed; job descriptions for each vacant key position; methods for recruiting and maintaining key staff.

Using the following values for each required item in this criterion, points will be awarded according to the extent to which the application:

4 Points

Provides biographical sketches of key staff

4 Points

Provides job descriptions for each key person appointed or to be appointed.

2 Points

Details methods for the recruitment and retention of key staff.

Budget and Budget Justification—5 points

The applications will be evaluated according to the extent to which the applicant provides a budget with line item detail and detailed calculations for each budget object class identified on the Budget Information form; detailed calculations that include estimation methods, quantities, unit costs, and other similar quantitative detail sufficient for the calculation to be duplicated; a breakout by the funding sources identified in Block 15 of the SF 424; a narrative budget justification that describes how the categorical costs are derived; and discusses the necessity, reasonableness, and allocability of the proposed costs.

Using the following values for each required item in this criterion, points will be awarded according to the extent to which the application:

3 Points

Provides a narrative budget justification that describes how the categorical costs are derived and discusses the necessity, reasonableness, and allocability of the proposed costs.

2 Points

Provides a budget with line item detail and detailed calculations for each budget object class identified on the Budget Information form; detailed calculations that include estimation methods, quantities, unit costs, and other similar quantitative detail sufficient for the calculation to be duplicated; a breakout by the funding sources identified in Block 15 of the SF 424.

Organizational Profiles—5 points

The applications will be evaluated according to the extent to which the applicant identifies the project director/principal investigator and key project staff; includes qualifications of project staff that will be carrying out project activities. Applications should include a description of the experience of the organization that demonstrates the applicant's ability to effectively and efficiently administer this project. The application must describe the relationship between this project and other work that is planned, anticipated, or currently under way by the applicant. An organizational chart should be included.

Using the following values for each required item in this criterion, points will be awarded according to the extent to which the application:

2 Points

Identifies the background and experience of key staff members.

2 Points

Assures compliance with the required affirmative action to employ and advance in employment qualified individuals with disabilities.

1 Point

Includes an organizational chart.

2. Review and Selection Process:

No grant award will be made under this announcement on the basis of an incomplete application. ADD may consider other factors or elements, other than the evaluation criteria, such as geographical dispersion and diversity, in reviewing and selecting applications.

The applications will be reviewed by a panel of approximately three individuals who are all non-Federal reviewers. The reviewers will have knowledge of issues pertaining to people with developmental disabilities, University systems, and/or the provision of interdisciplinary preservice preparation and continuing education, community services, research, and/or information dissemination.

Since ACF will be using non-Federal reviewers in the process, applicants have the option of omitting from the application copies (not the original) specific salary rates or amounts for individuals specified in the application budget and Social Security Numbers, if otherwise required for individuals. The copies may include summary salary information.

Approved but Unfunded Applications

Applications that are approved but unfunded may be held over for funding in the next funding cycle, pending the availability of funds, for a period not to exceed one year.

VI. Award Administration Information

1. Award Notices:

The successful applicants will be notified through the issuance of a Financial Assistance Award document which sets forth the amount of funds granted, the terms and conditions of the grant, the effective date of the grant, the budget period for which initial support will be given, the non-Federal share to be provided (if applicable), and the total project period for which support is contemplated. The Financial Assistance Award will be signed by the Grants Officer and transmitted via postal mail.

Organizations whose applications will not be funded will be notified in writing.

2. Administrative and National Policy Requirements:

Grantees are subject to the requirements in 45 CFR part 74 (non-governmental) or 45 CFR part 92 (governmental).

Direct Federal grants, sub-award funds, or contracts under this Family Support Initiative 2005 program shall not be used to support inherently religious activities such as religious instruction, worship, or proselytization. Therefore, organizations must take steps to separate, in time or location, their inherently religious activities from the services funded under this Program. Regulations pertaining to the Equal Treatment For Faith-Based Organizations, which includes the prohibition against Federal funding of inherently religious activities, can be found at either 45 CFR 87.1 or the HHS Web site at: http://www.os.dhhs.gov/fbci/waisgate21.pdf.

3. Reporting Requirements:

Grantees will be required to submit program progress and financial reports (SF-269 found at http://www.acf.hhs.gov/programs/ofs/forms.htm) throughout the project period. Program progress and financial reports are due 30 days after the reporting period. Final programmatic and financial reports are due 90 days after the close of the project period.

Program Progress Reports: Annually.

Financial Reports: Semi-Annually.

Entities funded under this program announcement must respond to the ADD system of program accountability. The national network of UCEDDs will follow a template for reporting progress on an annual basis. To receive a copy of the proposed UCEDD Annual Report template, contact Jennifer Johnson at jjohnson1@acf.hhs.gov or 202-690-5982.

VII. Agency Contacts

Program Office Contact:

Jennifer Johnson, Ed.D., Program Specialist, Office of Operations and Discretionary Grants, Administration on Developmental Disabilities, Administration for Children and Families, Mail Stop: HHH 405-D, 370 L'Enfant Promenade, SW., Washington, DC 20447. Phone: (202) 690-5982. Fax: (202) 205-8037. E-mail: jjohnsonl@acf.hhs.gov.

Grants Management Office Contact:

Tim Chappelle, Grants Officer, Office of Grants Management, Administration for Children and Families, 370 L' Enfant Promenade, SW., Mail Stop: 8th Floor West, Washington, DC 20447. Phone: (202) 404-2344. Fax: (202) 205-8436. E-mail: tichappelle@acf.hhs.gov.

VIII. Other Information

Notice: Beginning with FY 2006, the Administration for Children and Families (ACF) will no longer publish grant announcements in the Federal Register. Beginning October 1, 2005, applicants will be able to find a synopsis of all ACF grant opportunities and apply electronically for opportunities via: http://www.Grants.gov. Applicants will also be able to find the complete text of all ACF grant announcements on the ACF Web site located at: http://www.acf.hhs.gov/grants/index.html.

Please reference Section IV.3 for details about acknowledgement of received applications.

Dated: May 4, 2005.
Debbie Powell,
Director, Office of Operations and Discretionary Grant Programs, Administration on Developmental Disabilities.

[FR Doc. 05-9225 Filed 5-6-05; 8:45 am]

BILLING CODE 4184-01-P